DEPARTMENT OF LABOR

Employee Benefits Security Administration

188th Meeting of the Advisory Council on Employee Welfare and Pension Benefit Plans; Notice of Teleconference Meeting

Pursuant to the authority contained in Section 512 of the Employee Retirement Income Security Act of 1974 (ERISA), 29 U.S.C. 1142, the 188th open meeting of the Advisory Council on Employee Welfare and Pension Benefit Plans (also known as the ERISA Advisory Council) will be held as a teleconference on September 25, 2017.

The meeting will take place in C5521 Room 4, U.S. Department of Labor, 200 Constitution Avenue NW., Washington, DC 20210. Public access is available only in this room (i.e. not by telephone). The meeting will run from 10:00 a.m. to approximately 3:00 p.m. The purpose of the open meeting is to discuss reports/recommendations for the Secretary of Labor on the issues of (1) Reducing the Burden and Increasing the Effectiveness of Mandated Disclosures with respect to Employment-Based Health Benefit Plans in the Private Sector, and (2) Mandated Disclosure for Retirement Plans—Enhancing Effectiveness for Participants and Sponsors. Descriptions of these topics are available on the Advisory Council page of the EBSA Web site at http://www.dol.gov/ebsa/aboutebsa/erisa_advisory_council.html.

Organizations or members of the public wishing to submit a written statement may do so by submitting 30 copies on or before September 18, 2017 to Larry Good, Executive Secretary, ERISA Advisory Council, U.S. Department of Labor, Suite N-5623, 200 Constitution Avenue NW., Washington, DC 20210. Statements also may be submitted as email attachments in rich text, Word, or pdf format transmitted to good.larry@dol.gov. It is requested that statements not be included in the body of an email. Statements deemed relevant by the Advisory Council and received on or before September 18 will be included in the record of the meeting and will be available to anyone by contacting the EBSA Public Disclosure Room. Do not include any personally identifiable information (such as name, address, or other contact information) or confidential business information that you do not want publicly disclosed.

Individuals or representatives of organizations wishing to address the Advisory Council should forward their requests to the Executive Secretary or telephone (202) 693-8668. Oral presentations will be limited to ten minutes, time permitting, but an extended statement may be submitted for the record. Individuals with disabilities who need special accommodations should contact the Executive Secretary by September 18, 2017 at the address indicated.

Signed at Washington, DC, this 31st day of August 2017.
Timothy D. Hauser,
Deputy Assistant Secretary for Program Operations, Employee Benefits Security Administration.

[FR Doc. 2017-18955 Filed 9-6-17; 8:45 am]

BILLING CODE 4510-29-P